DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Shipper's Export Declaration (SED)/Automated Export System (AES) Program.

OMB Control Number: 0607-0152.

Form Number(s): 7525-V, AES.

Type of Request: Revision of a currently approved collection.

Burden Hours: 817,941.

Number of Respondents: 239,094.

Average Hours per Response: 7525-V—11 minutes; AES—3 minutes.

Needs and Uses: The current clearance under Office of Management and Budget (OMB) Number 0607-0152 covers the paper SED, Commerce Form 7525-V and its electronic equivalent, the AES and related documents (e.g., Letter of Intent, AESDirect Registration and Certification Quiz).

The Census Bureau will be using the paper SED for a limited period of time during 2008. This is due to the expected implementation of mandatory electronic filing of all export information via the AES. This requirement is mandated through Public Law 107-228, of the Foreign Relations Authorization Act of 2003.

This law authorizes the Secretary of Commerce with the concurrences of the Secretary of State and the Secretary of Homeland Security to require all persons who file export information according to Title 13, United States Code (U.S.C.), Chapter 9, to file such information through the AES. Since 2005, the Census Bureau and the U.S. Customs and Border Protection (CBP) have implemented the following enhancements to the AES: (1) Edits for rough diamond shipments for the Kimberly Process; (2) E-mail messaging; (3) Created the Validated End-User license code; (4) Automated carrier code updates; (5) Developed background Standard Carrier Alpha Codes (SCAC) update process from National Motor Freight Traffic Association file; (6) Developed SCAC maintenance log list; (7) Developed Consignee screens; (8) Allowed Option 4 vessel shipments to proscribed countries; (9) Developed method of transportation maintenance screens; and (10) Developed edit value type screens. The revisions should not affect the average three-minute response time for the completion of the AES record. There will be no changes to the paper SED; therefore, there is no expected change to the existing 11-minute response time to complete this form.

The Census Bureau will allow the trade community to continue using the paper SED until the actual implementation of the mandatory electronic filing requirement occurs. Implementation of the mandatory electronic filing requirement is expected to take place in the second quarter of 2008. Currently, the Census Bureau is involved in the rulemaking process that will notify the trade community of the mandatory requirement for electronic filing.

The SED form and its electronic equivalent, the AES record, provide the means for collecting data on U.S. exports. The official export statistics collected from these tools provide the basic component for the compilation of the U.S. position on merchandise trade. These data are an essential component of the monthly totals provided in the U.S. International Trade in Goods and Services Press Release, a principal economic indicator and a primary component of the Gross Domestic Product (GDP).

The data collected from the SED and the AES records are also used for export control purposes under Title 50, U.S.C., Export Administration Act, to detect and prevent the export of certain items by unauthorized parties or to unauthorized destinations or end users.

The information collected on the paper SED and the AES record shows what is being exported (description and commodity classification number), how much is exported (quantity, shipping weight, and value), how it is being exported (mode of transport, exporting carrier, and whether containerized), from where (state of origin and port of export), to where (port of unloading and country of ultimate destination), and when a commodity is exported (date of exportation). The identification of the U.S. Principal Party in Interest (USPPI) shows who is exporting goods for consumption (control purposes), while the USPPI and/or the forwarding or other agent information provides a contact for verification of the information.

The information is used by the Federal Government and the private sector. The Federal Government uses every data element on the SED/AES record for statistical purposes, export control, and/or to obtain data to avoid taking additional surveys.

Data collected from the SED/AES serves as the official records of export transactions. In addition, the mandatory use of the AES record will enable the U.S. Government to produce more accurate export statistics. Currently, the mandatory use of the AES in specific export situations facilitates the Bureau of Industry and Security (BIS) and the CBP to enforce the Export Administration Regulations for the detection and prevention of exports of high technology commodities to unauthorized destinations; the enforcement of the International Traffic in Arms Regulations (ITAR) by the U.S. Department of State; and the validation of the Kimberly Process Certificate for the export of rough diamonds.

Other Federal agencies use the data to develop the components of the merchandise trade figures used in the calculations for the balance of payments and GDP accounts to evaluate the effects of the value of U.S. exports; to plan and examine export promotion programs and agricultural development and assistance programs; and to prepare for and assist in trade negotiations under the General Agreement on Tariffs and Trade. Collection of these data also eliminate the need for conducting additional surveys for the collection of information as the SED/AES record shows the relationship of the parties to the export transaction (as required by the Bureau of Economic Analysis). The SED/AES record data are also used by the Bureau of Labor Statistics as a source for developing the export price index and by the Department of Transportation for administering the negotiation of reciprocal arrangements for transportation facilities between the United States and other countries.

A collaborative effort amongst the Census Bureau, the National Governors' Association and other data users resulted in the development of export statistics requiring the state of origin to be reported on the paper SED/AES record. The information collected enables state governments to focus activities and resources on fostering exports of the kinds of goods that originate in their states.

Export statistics collected from the SED/AES record aid private sector companies, financial institutions, and transportation entities in conducting market analysis and market penetration studies for the development of new markets and market-share strategies. Port authorities, steamship lines, steamship freight conferences, airlines, aircraft manufacturers, and air transport associations use these data for measuring the volume and effect of air or vessel shipments and the need for additional or new types of facilities.

Affected Public: Business or other for-profit organizations.

Frequency: On occasion.

Respondent's Obligation: Mandatory.

Legal Authority: Title 13, U.S.C., Chapter 9, Sections 301-307, mandates the collection of these data. The regulatory provisions for the collection of these data are contained in the Foreign Trade Statistics Regulations, Title 15, Code of Federal Regulations (CFR), Part 30.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer either by fax (202-395-7245) or e-mail (bharrisk@omb.eop.gov).

Dated: February 20, 2008.
Gwellnar Banks,
Management Analyst, Office of the Chief Information Officer.

[FR Doc. E8-3503 Filed 2-22-08; 8:45 am]

BILLING CODE 3510-07-P